DEPARTMENT OF THE INTERIOR

Bureau of Land Management

[LLOR936000.L1440000.ET0000 FUND: 15XL1109AF; HAG-15-0165; OR50483]

Notice of Application for Extension of Public Land Order No. 7233; Opportunity for Public Meeting; Oregon

AGENCY: Bureau of Land Management, Interior.

ACTION: Notice.

SUMMARY: The United States Forest Service (USFS) has filed an application with the Bureau of Land Management (BLM) requesting that the Secretary of the Interior extend the duration of Public Land Order (PLO) No. 7233 for an additional 20-year term. PLO No. 7233 withdrew approximately 2,090 acres of National Forest Systems Lands in the Rogue River-Siskiyou National Forest from mining for 20 years to protect the Rabbit Ears-Falcon Wildlife Area; Rogue River Wild and Scenic Corridor; Union Creek Historic District; Abbot Creek and Mill Creek Recreation Sites; and the Prospect Ranger Station Administrative Site. The withdrawal created by Public Land Order No. 7233 will expire on January 1, 2017, unless extended. This notice also gives an opportunity to comment on the application and to request a public meeting.

DATES: Comments and public meeting requests must be received by June 14, 2016.

ADDRESSES: Comments and meeting requests should be sent to the BLM Oregon/Washington State Director, P.O. Box 2965, Portland, OR 97208-2965.

FOR FURTHER INFORMATION CONTACT: Jacob Childers, BLM Oregon/Washington State Office, 503-808-6225; Candice Polisky, USFS Pacific Northwest Region, 503-808-2479.

Persons who use a telecommunications device for the deaf (TDD) may call the Federal Information Relay Service (FIRS) at 1-800-877-8339 to contact either of the above individuals. The FIRS is available 24 hours a day, 7 days a week. You will receive a reply during normal business hours.

SUPPLEMENTARY INFORMATION: The USFS has filed an application requesting that the Secretary of the Interior extend the withdrawal created by PLO No. 7233 for an additional 20-year term, subject to valid existing rights. PLO No. 7233 (62 FR 104 (1997)) withdrew National Forest System Lands from location and entry under United States mining laws (30 U.S.C. Ch. 2), but not from leasing under the mineral leasing laws. The purpose of the requested withdrawal extension is to protect a wildlife area, a wild and scenic river corridor, a historic district, two recreation sites, and a ranger station administrative site. The USFS would not need to acquire water rights to fulfill the purpose of the requested withdrawal extension.

PLO No. 7233 is incorporated herein by reference. The areas described aggregate 2,090 acres within the Rogue River-Siskiyou National Forest in Jackson and Douglas Counties. Records related to the application may be examined by contacting Jacob Childers at the above address or phone number.

For a period until June 14, 2016, all persons who wish to submit comments, suggestions, or objections in connection with the withdrawal extension application may present their views in writing to the BLM Oregon/Washington State Office, State Director at the address indicated above.

Comments, including names and street addresses of respondents, will be available for public review at the address indicated above during regular business hours. Be advised that your entire comment including your personal identifying information may be made publicly available. While you can ask us to withhold your personal identifying information from public review, we cannot guarantee that we will be able to do so. Notice is hereby given that an opportunity for a public meeting is afforded in connection with the withdrawal extension application. All interested parties who desire a public meeting for the purpose of being heard on the withdrawal extension application must submit a written request to the BLM State Director at the address indicated above by June 14, 2016. Upon determination by the authorized officer that a public meeting will be held, a notice of the time and place will be published in the Federal Register and a local newspaper at least 30 days before the scheduled date of the meeting. This extension will be processed in accordance with 43 CFR 2310.4.

Fred O'Ferrall,
Chief, Branch of Land, Mineral, and Energy Resources.

[FR Doc. 2016-05914 Filed 3-15-16; 8:45 am]

BILLING CODE 3411-15-P